DEPARTMENT OF THE INTERIOR

Office of the Secretary

Privacy Act of 1974; Amendment of Existing System of Records

AGENCY: Office of the Secretary.

ACTION: Proposed amendment of existing Privacy Act system of records.

SUMMARY: In accordance with the Privacy Act of 1974 (5 U.S.C. 552a), the Office of the Secretary of the Department of the Interior is issuing public notice of its intent to amend an existing Privacy Act system of records notice, Interior, OS-86, “Accounts Receivable.” The changes will update the name of the system, system location, categories of individuals covered by the system, categories of records in the system, routine use of records, storage and safeguard requirements, retrievability of records, and system managers(s) and addresses.

DATES: Comments must be received by September 8, 2008.

ADDRESSES: Any persons interested in commenting on these proposed amendments to an existing system of records may do so by submitting comments in writing to the Office of the Secretary Acting Privacy Act Officer, Linda Thomas, U.S. Department of the Interior, MS-116 SIB, 1951 Constitution Avenue, NW., Washington, DC 20240, or by e-mail to Linda_Thomas@nbc.gov.

FOR FURTHER INFORMATION CONTACT: Office of the Secretary Acting Privacy Act Officer, Linda Thomas, U.S. Department of the Interior, MS-116 SIB, 1951 Constitution Avenue, NW., Washington, DC 20240, or by e-mail to Linda_Thomas@nbc.gov.

SUPPLEMENTARY INFORMATION: The Office of the Secretary is proposing to amend an existing Privacy Act system of records notice, Interior, OS-86, “Accounts Receivable,” because the Department of the Interior (DOI) is in the process of replacing the electronic system used by the Office of the Secretary to manage the process of billing customers and debtors for amounts owed with the Financial and Business Management System (FBMS). In the process, it is expanding the coverage of the system to include all of DOI's component bureaus and offices and renaming the system notice DOI-86, “Accounts Receivable: FBMS.”

FBMS will provide the Department of the Interior with standard business practices supported by a single, integrated finance and administrative system for all bureaus; it will help DOI manage a variety of business functions, including the collection of debts. FBMS takes a comprehensive approach to improving the current business functions in its core systems by replacing DOI's current computer systems with modern software. The combination of standardized business practices and enhanced computer system functionality will enable DOI's bureaus and offices to improve service to their customers and to operate more efficiently. Benefits gained from implementing this suite of applications will include the ability to access and share real-time, accurate business information; to support effective business decisions for mission delivery; to issue accurate financial reports and analysis of managerial data; to support timely decision-making in the field; to free-up more time for mission-focused activities; to focus on value-added analysis rather than data gathering; and to eliminate redundant administrative tasks and multiple login screens.

DOI has adopted a multi-year, phased approach to implementing FBMS, both in terms of functionality, and in terms of the migration of the Department's component bureaus and offices from FFS and other associated systems, to the FBMS. DOI plans to complete its implementation of the FBMS by calendar year 2013.

Towards that end, these amendments will be effective as proposed at the end of the comment period unless comments are received which would require a contrary determination. The Department will publish a revised notice if changes are made based upon a review of comments received.

Linda Thomas,
Office of the Secretary Acting Privacy Officer.

SYSTEM NAME:

Interior, DOI-86, “Accounts Receivable: FBMS.”

SYSTEM LOCATION:

Financial and Procurement Systems Division, Budget and Finance, National Business Center, MS D-2790, 7301 West Mansfield Avenue, Denver, CO 80235-2230.

CATEGORIES OF INDIVIDUALS COVERED BY THE SYSTEM:

Individuals owing money to the Department of the Interior's (DOI) bureaus and offices, including employees of the Department, former employees of the Department, business firms, institutions, and private citizens.

Note: Most of the records in this system that pertain to individuals contain information about “sole proprietorships.” However, some of the records which pertain to individuals also contain personal information. Only those records containing personal information are subject to the Privacy Act. The manual and automated filing systems in which these records are maintained also contain records concerning corporations and other business entities or organizations. These records, which do not pertain to individuals, are not subject to the Privacy Act.

CATEGORIES OF RECORDS IN THE SYSTEM:

Name, address, Taxpayer Identification Number, Social Security Number, telephone number, vendor code or number, amount of money owed, basis for inclusion in system (including itemization of goods and services received or provided, and/or overpayments or under payments made by them or provided to them.)

AUTHORITY FOR MAINTENANCE OF THE SYSTEM:

5 U.S.C. 5514; 31 U.S.C. 3701 and 3702; 31 U.S.C. 3711 et seq.; and 26 U.S.C. 6402.

ROUTINE USES OF RECORDS MAINTAINED IN THE SYSTEM, INCLUDING CATEGORIES OF USERS AND THE PURPOSE OF SUCH USES:

The primary purpose of the system is to bill debtors for amounts owed to DOI and to follow-up on unpaid debts.

Note: Records in this system are subject to use in approved computer matching programs authorized under the Privacy Act of 1974, as amended, for debt collection purposes.

Other disclosures outside the Department of the Interior may be made:

(1) To disclose debtor information to the Internal Revenue Service, or to another Federal agency or its contractor solely to aggregate information for the Internal Revenue Service to collect debts owed to the Federal government through the offset of tax refunds.

(2) To consumer reporting agencies to facilitate collection of debts owed the Government.

(3) To other Federal agencies for the purpose of collecting debts owed to the Federal government.

(4) To any other Federal, state or local agency for the purpose of conducting an authorized computer matching program to identify and locate delinquent debtors for the recoupment of debts owed to the Department of the Interior.

(5)(a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(6) To a congressional office in response to a written inquiry that an individual covered by the system, or the heir of such individual if the covered individual is deceased, has made to the office.

(7) To any criminal, civil, or regulatory law enforcement authority (whether federal, state, territorial, local, tribal or foreign) when a record, either alone or in conjunction with other information, indicates a violation or potential violation of law—criminal, civil, or regulatory in nature, and the disclosure is compatible with the purpose for which the records were compiled.

(8) To an official of another federal agency to provide information needed in the performance of official duties related to reconciling or reconstructing data files or to enable that agency to respond to an inquiry by the individual to whom the record pertains.

(9) To federal, state, territorial, local, tribal, or foreign agencies that have requested information relevant or necessary to the hiring, firing or retention of an employee or contractor, or the issuance of a security clearance, license, contract, grant or other benefit, when the disclosure is compatible with the purpose for which the records were compiled.

(10) To representatives of the National Archives and Records Administration to conduct records management inspections under the authority of 44 U.S.C. 2904 and 2906.

(11) To state and local governments and tribal organizations to provide information needed in response to court order and/or discovery purposes related to litigation, when the disclosure is compatible with the purpose for which the records were compiled.

(12) To an expert, consultant, or contractor (including employees of the contractor) of DOI that performs services requiring access to these records on DOI's behalf to carry out the purposes of the system.

(13) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

(14) To the Office of Management and Budget during the coordination and clearance process in connection with legislative affairs as mandated by OMB Circular A-19.

(15) To the Department of the Treasury to recover debts owed to the United States.

(16) To the news media when the disclosure is compatible with the purpose for which the records were compiled.

DISCLOSURE TO CONSUMER REPORTING AGENCIES:

Disclosures pursuant to 5 U.S.C. 552a(b)(12). Pursuant to 5 U.S.C. 552a(b)(12), disclosures may be made to a consumer reporting agency as defined in the Fair Credit Reporting Act (15 U.S.C. 1681a(f)) or the Federal Claims Collection Act of 1966 (31 U.S.C. 3701(a)(3)).

POLICIES AND PRACTICES FOR STORING, RETRIEVING, ACCESSING, RETAINING, AND DISPOSING OF RECORDS IN THE SYSTEM:

STORAGE:

Records are maintained in manual, microfilm, microfiche, electronic, imaged and computer printout form. Electronic records are stored on magnetic media at the central computer processing center. Original input documents are stored in standard office filing equipment and/or as imaged documents on magnetic media at all locations which prepare and provide input documents and information for data processing.

RETRIEVABILITY:

Records are retrieved by name, Social Security Number/Employee Identification Number/Taxpayer Identification Number (individuals), vendor code or number, and appropriation or fund to be credited.

SAFEGUARDS:

FBMS is maintained with controls meeting safeguard requirements identified in Departmental Privacy Act Regulations (43 CFR 2.51) for manual and automated records. Access to records is limited to authorized personnel whose official duties require such access; agency officials have access only to records pertaining to their agencies.

(1) Physical Security: Paper or micro format records are maintained in locked file cabinets and/or in secured rooms.

(2) Technical Security: Electronic records are maintained in conformity with Office of Management and Budget and Departmental guidelines reflecting the implementation of the Federal Information Security Management Act. Electronic data is protected through user identification, passwords, database permissions and software controls. These security measures establish different degrees of access for different types of users. An audit trail is maintained and reviewed periodically to identify unauthorized access. A Privacy Impact Assessment was completed for the FBMS and is updated at least annually to ensure that Privacy Act requirements and personally identifiable information safeguard requirements are met.

(3) Administrative Security: All DOI and contractor employees with access to FBMS are required to complete Privacy Act, Federal Records Act and Security Awareness training prior to being given access to the system, and on an annual basis, thereafter.

RETENTION AND DISPOSAL:

While records are generally retained and disposed of in accordance with General Records Schedule No. 6, Item No. 1, a new records schedule for the FBMS is in process in the Office of the Secretary.

SYSTEM MANAGER(S) AND ADDRESS:

(1) The following co-system owners have overall responsibility for the Financial and Business Management System:

(a) Director, Office of Acquisition and Property Management, U.S. Department of the Interior, Office of the Secretary, 1849 C Street, NW, MS-2607 MIB, Washington, DC 20240; and

(b) Director, Office of Financial Management, U.S. Department of the Interior, Office of the Secretary, 1849 C Street, NW., MS-2557, Washington, DC 20240.

(2) The following system manager has responsibility for the management and operation of the computing center on which the Financial and Business Management System is being implemented: Chief, Financial and Procurement Systems Division, Budget and Finance, National Business Center, MS D-2790. 7301 West Mansfield Avenue, Denver, CO 80235-2230.

(3) The following Department of the Interior bureau/office system managers have responsibility for the data input into and maintained on the Financial and Business Management System by or for their respective bureaus/offices:

(a) Chief, Division of Financial Management, Office of Surface Mining Reclamation and Enforcement, P. O. Box 25065, Denver Federal Center, Building 25, Room 1501, Denver, CO 80225-0065.

(b) Chief, Finance Division, Minerals Management Service, Mail Stop 2310, 381 Elden Street, Herndon, VA 20170-4817.

(c) Chief, Division of Financial Management, U. S. Fish and Wildlife Service, Mail Stop 7029-43, 4401 North Fairfax Drive, Arlington, VA 22203.

(d) Chief, Office of Financial Management, Indian Affairs, Ely S. Parker Building, 2051 Mercator Drive, Reston, VA 20191.

(e) Finance Officer, Bureau of Land Management, Building 50, Denver Federal Center, P.O. Box 25047, Denver, CO 80225.

(f) Manager, Finance and Accounting Division, Bureau of Reclamation, P.O. Box 25007, DFC Attn: 84-27700, Denver, CO 80225-0007.

(g) Finance Officer, Office of Financial Management, Office of the Secretary, 1849 C Street, NW., MS-2557 MIB, Washington, DC 20240.

(h) Manager, Accounting Operations Center, National Park Service, 13461 Sunrise Valley Drive, 2nd Floor, Herndon, VA 20171.

(i) U.S. Geological Survey, Office of Accounting and Financial Management, Mail Stop 270, 12201 Sunrise Valley Drive, Reston, VA 20192.

(j) Chief, Accounting Operations Division, National Business Center, 7301 West Mansfield Avenue, Mail Stop D-2770, Denver, CO 80235-2230.

NOTIFICATION PROCEDURES:

An individual requesting notification of the existence of records on himself or herself should address his/her request to the appropriate bureau/office System Manager. The request must be in writing, signed by the requester, and meet the content requirements of 43 CFR 2.60.

RECORDS ACCESS PROCEDURES:

An individual requesting access to records maintained on himself or herself should address his/her request to the appropriate bureau/office System Manager. The request must be in writing, signed by the requester, and meet the content requirements of 43 CFR 2.63.

CONTESTING RECORDS PROCEDURES:

An individual requesting amendment of a record maintained on himself or herself should address his/her request to the appropriate bureau/office System Manager. The request must be in writing, signed by the requester, and meet the content requirements of 43 CFR 2.71.

RECORD SOURCE CATEGORIES:

Individuals owing money to the Department of the Interior bureaus and offices and standard finance and accounting documents.

EXEMPTIONS CLAIMED FOR THE SYSTEM:

None.

[FR Doc. E8-17250 Filed 7-25-08; 8:45 am]

BILLING CODE 4310-RK-P